DEPARTMENT OF HOUSING AND URBAN DEVELOPMENT

[Docket No. FR-7070-N-82]

30-Day Notice of Proposed Information Collection; Housing Counseling Homeownership Initiative Notice of Funding Opportunity (HI NOFO); OMB Control No.: 2502-NEW

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

This notice replaces the notice HUD published on November 14, 2023.

DATES: Comments Due Date: December 14, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Colette Pollard, Clearance Officer, REE, Department of Housing and Urban Development, 451 7th Street SW, Room 8210, Washington, DC 20410; email PaperworkReductionActOffice@hud.gov.

FOR FURTHER INFORMATION CONTACT: Colette Pollard, Reports Management Officer, REE, Department of Housing and Urban Development, 451 7th Street SW, Washington, DC 20410; email Colette.Pollard@hud.gov; telephone number (202) 402-3400. This is not a toll-free number. HUD welcomes and is prepared to receive calls from individuals who are deaf or hard of hearing, as well as individuals with speech or communication disabilities. To learn more about how to make an accessible telephone call, please visit: https://www.fcc.gov/consumers/guides/telecommunications-relay-service-trs.

Copies of available documents submitted to OMB may be obtained from Ms. Pollard.

SUPPLEMENTARY INFORMATION: This notice informs the public that HUD is seeking approval from OMB for the information collection described in Section A. The Federal Register notice that solicited public comment on the information collection for a period of 60 days was published on August 30, 2023 at 88 FR 59935.

A. Overview of Information Collection

Title of Information Collection: Housing Counseling Homeownership Initiative Notice of Funding Opportunity (HI NOFO).

OMB Approval Number: 2502-NEW.

OMB Expiration Date: None.

Type of Request: New collection.

Form Numbers: HUD-91045; HUD-424-B; HUD-50153; HUD-2880; SF-LLL; SF-424.

Description of the need for the information and proposed use: The HUD Office of Housing Counseling will use the information collected to objectively evaluate grant applicants on how well they will be able to meet the selection factors set forth in the new Homeownership Initiative Notice of Funding Opportunity, hereinafter HI-NOFO, based on their history of performance and on their responses to questions. The collection will also serve to monitor selected applicants or grantees to assess compliance and effectiveness. This collection of information is required for the award of the HI NOFO grant program in furtherance of HUD's mission to increase homeownership rates among historically underserved communities. The grant program looks to deliver measurable outcomes by awarding funds to HUD-approved Intermediaries, Multi-State Organizations, and State and Local government Housing Finance Agencies who have demonstrated experience providing culturally sensitive, linguistically appropriate pre- and post-purchase housing counseling. Selected agencies will provide independent, expert, and customized guidance to help underserved communities. The NOFO specific information is collected via the new form HUD-90145 (Homeownership Initiative Chart). All other forms that are part of this collection are mandatory OMB or HUD standard grant application forms.

This review is necessary to support HUD participating agencies who are seeking to increase the homeownership rate among historically underserved communities and stop or reverse the increasing homeownership gap resulting from the effects of the COVID-19 pandemic and resulting shortage of affordable homes within those communities. These agencies will provide targeted counseling, outreach to members of their communities as well as seek partnerships with other agencies to help individuals and families achieve sustainable homeownership, no matter their race, ethnicity, disability status, or other protected class.

Respondents: HUD-approved non-profit HUD National and Regional Intermediaries (Intermediaries), Multi-State Organizations (MSOs), and State Housing Finance Agencies (SHFAs).

Estimated Number of Respondents: 56.

Estimated Number of Responses: 341.

Frequency of Response: Annually.

Average Hours per Response: 8.7.

Total Estimated Burden: 2,968 hours.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on respondents, including through the use of appropriate automated collection techniques or other forms of information technology, e.g., permitting electronic submission of responses.

(5) ways to minimize the burden of the collection of information on those who are to respond, including the use of automated collection techniques or other forms of information technology.

HUD encourages interested parties to submit comments in response to these questions.

C. Authority

Section 3507 of the Paperwork Reduction Act of 1995 (44 U.S.C. 3507).

Colette Pollard,
Department Reports Management Officer, Office of Policy Development and Research, Chief Data Officer.

[FR Doc. 2023-25044 Filed 11-13-23; 8:45 am]

BILLING CODE 4210-67-P